DEPARTMENT OF THE TREASURY

Submission for OMB Review; Comment Request

September 22, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before October 28, 2005 to be assured of consideration.

Internal Revenue Service (IRS)

OMB Number: 1545-0295.

Type of Review: Extension.

Title: Notice 210 Preparation Instructions of Media Labels.

Description: Notice 210, Preparation Instructions for Media Labels, instructs the filers on how to prepare their own pressure sensitive label. This label must be attached to each and every piece of magnetic media to identify specific items needed so that the media can be processed by the Internal Revenue Service.

Respondents: Business or other for-profit and Not-for-profit business.

Estimated Total Burden Hours: 12,765 hours.

OMB Number: 1545-0970.

Type of Review: Extension.

Title: U.S. Partnership Declaration and Signature for Electronic Filing.

Form: IRS form 8453-P.

Description: This form is used to secure general partner's signature and declaration in conjunction with the electronic filing of a partnership return (form 1065). Form 8453-P, along with the electronic transmission, will comprise the partnership's return.

Respondents: Business or other for-profit.

Estimated Total Burden Hours: 405 hours.

OMB Number: 1545-1007.

Type of Review: Extension.

Title: Nondeductible IRAs.

Form: IRS form 8606.

Description: IRC section 408(o) requires certain information regarding nondeductible contributions to traditional IRAs (reported on Part I of Form 8606). IRC section 408A(d) requires information regarding conversions from traditional IRAs to Roth IRAs and distributions from Roth IRAs (reported on Parts II & III of Form 8606). IRC section 530 requires information regarding distributions from ED IRAs (reported on Part IV of Form 8606).

Respondents: Individuals or households.

Estimated Total Burden Hours: 2,428,170 hours.

OMB Number: 1545-1012.

Type of Review: Extension.

Title: Salary Reductions Simplified Employee Pension-Individual Retirement Accounts Contribution Agreement.

Form: 5305A-SEP.

Description: Form 5305-A SEP is used by an employer to make an agreement to provide benefits to all employees under a salary reduction Simplified Employee Pension (SEP) described in section 408(k). This form is not to be filed with IRS, but is to be retained in the employers' records as proof of establishing such a plan, thereby justifying a deduction for contributions made to SEP. The data is used to verify the deduction.

Respondents: Business or other for-profit.

Estimated Total Burden Hours: 972,000 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. 05-19338 Filed 9-27-05; 8:45 am]

BILLING CODE 4830-01-P